DEPARTMENT OF ENERGY

Federal Energy Regulatory Commission

Notice of Effectiveness of Exempt Wholesale Generator or Foreign Utility Company Status

Old Mill Solar, L.L.C | EG15-36-000
Joliet Battery Storage LLC | EG15-38-000
West Chicago Battery Storage LLC | EG15-39-000
Baffin Wind LLC | EG15-40-000
RE Barren Ridge 1 LLC | EG15-41-000
RE Tranquillity LLC | EG15-42-000
RE Roserock LLC | EG15-43-000
Malaga Power, LLC | EG15-44-000
Goshen Wind, LP | FC15-5-000

Take notice that during the month of March 2015, the status of the above-captioned entities as Exempt Wholesale Generators or Foreign Utility Companies became effective by operation of the Commission's regulations. 18 CFR 366.7(a).

Dated: April 8, 2015.
Kimberly D. Bose,
Secretary.

[FR Doc. 2015-08554 Filed 4-14-15; 8:45 am]

BILLING CODE 6717-01P